POSTAL SERVICE BOARD OF GOVERNORS

Sunshine Act Meeting

Dates and Times: Thursday, November 12, 2009, at 10 a.m.; and Friday, November 13, 2009, at 8:30 a.m. and 11 a.m.

Place: Washington, DC, at U.S. Postal Service Headquarters, 475 L'Enfant Plaza, SW., in the Benjamin Franklin Room.

Status: November 12—10:00 a.m.—Closed; November 13—8:30 a.m.—Open; November 13—11 a.m.—Closed.

Matters To Be Considered

Thursday, November 12 at 10 a.m. (Closed)

1. Financial Matters.

2. Strategic Issues.

3. Pricing.

4. Personnel Matters and Compensation Issues.

5. Governors' Executive Session—Discussion of prior agenda items and Board Governance.

Friday, November 13 at 8:30 a.m. (Open)

1. Call to Order and Minutes of the Previous Meetings.

2. Remarks of the Chairman of the Board.

3. Remarks of the Postmaster General and CEO.

4. Committee Reports.

5. Consideration of Fiscal Year 2009 10K, Audited Financial Statements, and Postal Service Annual Report.

6. Consideration of Fiscal Year 2010 Integrated Financial Plan.

7. Consideration of Fiscal Year 2009 Comprehensive Statement and Annual Performance Plan.

8. Quarterly Report on Service Performance.

9. Tentative Agenda for the December 8, 2009, teleconference meeting.

10. Election of Chairman and Vice Chairman of the Board of Governors.

Friday, November 13 at 11:00 a.m. (Closed)—If Needed

1. Continuation of Thursday's closed session agenda.

Contact Person for More Information: Julie S. Moore, Secretary of the Board, U.S. Postal Service, 475 L'Enfant Plaza, SW., Washington, DC 20260-1000. Telephone (202) 268-4800.

Julie S. Moore,
Secretary.

[FR Doc. E9-26545 Filed 10-30-09; 4:15 pm]

BILLING CODE 7710-12-P